DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 71 FR 44298-44300, dated August 4, 2006) is amended to reflect the transfer of functions and name change to Office of Equal Employment Opportunity, Office of the Director, Centers for Disease Control and Prevention.

Section C-B, Organization and Functions, is hereby amended as follows:

Under item (7) of the functional statement for the Office of the Chief Operating Officer (CAJ), delete the following: alternative dispute resolution activities.

Delete in its entirety the title and functional statement for the Office of Equal Employment Opportunity (CAV), and insert the following:

Office of Dispute Resolution and Equal Employment Opportunity (CAV). The Office of Dispute Resolution and Equal Employment Opportunity (ODREEO) is located in the Office of the Director, Centers for Disease Control and Prevention (CDC). The Director, ODREEO, serves as the principal advisor to the Director, CDC, on all equal employment opportunity matters. The ODREEO: (1) Develops and recommends for adoption CDC-wide equal employment opportunity policies, goals, and priorities to carry out the directives of the U.S. Office of Personnel Management, U.S. Equal Employment Opportunity Commission, and Department of Health and Human Services (DHHS) equal employment opportunity policies and requirements that are mandated by Title VII, Civil Rights Act of 1964; Age Discrimination in Employment Act (ADEA); Rehabilitation Act of 1973; Civil Service Reform Act; 29 CFR 1614, Federal Sector Equal Employment Opportunity; Executive Order 11478, Equal Employment Opportunity in the Federal Government; (2) provides leadership, direction, and technical guidance to CDC managers and staff for the development of comprehensive programs and plans; (3) coordinates and evaluates agency equal employment opportunity operations and plans, including affirmative action; (4) develops plans, programs, and procedures to assure the prompt receipt, investigation, and resolution of complaints of alleged discrimination by reason of race, sex, age, religion, national origin, handicap, or by reason of reprisal or retaliation; (5) coordinates the development of comprehensive special emphasis programs to assure full recognition of the needs of women, Hispanics, other minorities and the handicapped in hiring and employment; (6) identifies needs for ODREEO functions within CDC and assures the development of a training curriculum for all CDC supervisory personnel; (7) prepares or coordinates the preparation of, reports and analyses designed to reflect the status of employment of women and minorities at CDC and maintains liaison with DHHS and other organizations concerned with equal employment opportunity; (8) ensures effective coordination of ODREEO activities with CDC personnel and training programs, and with CDC national centers manpower planning and support programs in the health professions; (9) develops a system of structured reviews and evaluations of CDC ODREEO activities to assure effective operations and accountability; (10) assists in assuring the adequate allocation of resources for ODREEO including the establishment of guidelines for recruiting, selection, and training of agency personnel; (11) develops and directs research and evaluation studies to focus on, and improve the effectiveness of, ODREEO program activities; (12) provides direction for the agency's alternative dispute resolution activities, and (13) provides direct support for ODREEO program activities in CDC.

Dated: August 14, 2006.
William H. Gimson,
Chief Operating Officer, Centers for Disease Control and Prevention (CDC).

[FR Doc. 06-7117 Filed 8-23-06; 8:45 am]

BILLING CODE 4160-18-M